DEPARTMENT OF DEFENSE

Department of the Army, Corps of Engineers

Notice of Intent To Prepare a Joint Environmental Impact Statement/Environmental Impact Report and Conduct Scoping Meeting for the Corte Madera Creek Flood Control Project General Reevaluation Report and Integrated EIS/EIR, County of Marin, CA

AGENCY: Department of the Army, U.S. Army Corps of Engineers, DoD.

ACTION: Notice of Intent.

SUMMARY: The purpose of this notice is to initiate the scoping process for the preparation of an Integrated General Reevaluation Report and Environmental Impact Statement/Environmental Impact Report (EIS/EIR) for channel modification opportunities to Unit 2, 3 and 4 of the Corte Madera Creek Flood Control Project in Marin County, CA.

DATES: A public scoping meeting will be held on January 14, 2016 from 6:00 to 8:00 p.m. (PST). Submit comments concerning this notice on or before February 1, 2016.

ADDRESSES: The scoping meeting location is: the Marin Arts and Garden Center, 30 Sir Francis Drake Boulevard, Ross, CA 94957-9601. Mail written comments concerning this notice to: U.S. Army Corps of Engineers, San Francisco District, Planning Branch, ATTN: Stephen M. Willis, 1455 Market Street, San Francisco, CA 94103-1398. Comment letters should include the commenter's physical mailing address, the project title and the Corps file number in the subject line.

FOR FURTHER INFORMATION CONTACT: Stephen M. Willis, U.S. Army Corps of Engineers, San Francisco District, Planning Branch, 1455 Market Street, San Francisco CA 94103-1398, (415) 503-6861, stephen.m.willis2@usace.army.mil.

SUPPLEMENTARY INFORMATION: In accordance with the National Environmental Policy Act (NEPA), the U.S. Army Corps of Engineers intends to prepare an Environmental Impact Statement (EIS). The Corps will address channel modification opportunities to Unit 4 of Corte Madera Creek, Marin County, CA, in accordance with the Flood Control Act of 1962, Public Law 87-4, 87th Congress, 2nd Session, approved October 23, 1962, and amended by Section 204 of Public Law 89-789, the Flood Control Act of 1966, and the Water Resources Development Act of 1986. Modifications to Unit 4 may also require modifications to Units 2 and 3.

Pursuant to the California Environmental Quality Act (CEQA), Marin County Flood Control and Water Conservation District Zone 9 (MCFCWCD) is the lead agency and local sponsor in preparing an Environmental Impact Report (EIR). The Corps and MCFCWCD have agreed to jointly prepare a Draft EIS/EIR to optimize efficiency and avoid duplication. The Draft EIS/EIR is intended to be sufficient in scope to address the Federal, state and local requirements and environmental issues concerning the proposed activities and permit approvals.

The USACE's Corte Madera Creek Flood Control Project is consistent and compatible with the District's Ross Valley Flood Control Program, the purpose of which is to manage flood risk in the Ross Valley watershed.

Project Site and Background Information: Corte Madera Creek drains an area of approximately 28 square miles in Marin County, CA and discharges into the San Francisco Bay nine miles north of the Golden Gate Bridge. Unit 4 extends from downstream of the Lagunitas Road Bridge, near the upstream terminus of Unit 3, to the Sir Francis Drake Boulevard Bridge right before the Ross/San Anselmo town line. Although Units 1, 2, and 3 channel modifications were completed in 1971, public concerns led to a delay in the planned actions for Unit 4. In 1996, Marin County requested the completion of Unit 4 by the Corps, and damages incurred by the December 2005 flood also renewed public interest in finding solutions to minimize the risk of future floods.

Additional studies conducted by the Corps focused on evaluating the design performance of Units 3 and 4. These studies identified the abrupt transition between Units 3 and 4 created by the existing Denil fish ladder, the narrow channel condition on the east and west bank, and the Lagunitas Road Bridge as constrictions to flood flow. The Town of Ross replaced the Lagunitas Road Bridge in 2010 with a higher bridge profile to accommodate a greater flow capacity of approximately 5,400 cubic feet per second.

A charrette was held in 2013 to restart the project study under the Corps' SMART Planning principles. SMART Planning is intended to be Specific, Measureable, Attainable, Risk Informed, and Timely planning to complete USACE feasibility studies in a cost-effective and efficient manner. More information on the SMART Planning process is available at http://planning.usace.army.mil/toolbox/smart.cfm.

Additional information on this project can be found at http://www.marinwatersheds.org/documents_and_reports/USACECorteMaderaCreekProject.html.

Purpose and Need: The purpose of the project is to manage flood risk from Corte Madera Creek associated with Unit 4. The need of the project is to address channel modifications to Unit 4, from the upstream end of the existing Unit 3 concrete channel to Sir Francis Drake Boulevard at the border of Ross and San Anselmo, which may also require modifications to Units 3 and 2. Unit 3 extends from the upstream end of the concrete channel in Ross downstream to the College Avenue Bridge. Unit 2 extends from College Avenue Bridge downstream to Bon Air Bridge in Larkspur.

Issues: Potentially significant issues associated with the project may include: hydrology, geology, land use and planning, population and housing, water and air quality, climate change, biological resources, transportation, noise, aesthetics, utilities and service systems, cultural resources, human health and safety, and social and economic effects, as well as cumulative impacts from past, present and reasonably foreseeable future projects. Alternative actions will be evaluated that will consider fish passage for threatened and endangered fish species that migrate through the project area, riparian habitat, as well as other potential environmental issues of concern.

Scoping Process: The Corps is seeking participation of all interested Federal, state, and local agencies, Native American groups, and other concerned private organizations or individuals through this public notice.

The purpose of the public scoping meeting is to solicit comments regarding the potential impacts, environmental issues, and alternatives associated with the proposed action to be considered in the Draft EIS/EIR. The meeting place, date and time will be advertised in advance in local newspapers, and meeting announcement letters will be sent to interested parties. The Draft Integrated General Reevaluation Report and EIS/EIR is expected to be available for public review and comment in the Fall of 2016 and a public meeting will be held after its publication.

John C. Morrow,
Lieutenant Colonel, U.S. Army District Engineer.

[FR Doc. 2015-31804 Filed 12-17-15; 8:45 am]

BILLING CODE 3720-58-P